DEPARTMENT OF HEALTH AND HUMAN SERVICES

Centers for Disease Control and Prevention

[Docket No. CDC-2021-0034]

Advisory Committee on Immunization Practices (ACIP); Amended Notice of Meeting

Notice is hereby given of a change in the meeting of the Advisory Committee on Immunization Practices (ACIP); June 23, 2021, from 10:00 a.m. to 5:00 p.m., EDT (times subject to change); June 24, 2021, from 10:30 a.m. to 5:10 p.m., EDT (times subject to change); and June 25, 2021, from 10:00 a.m. to 12:20 p.m., EDT (times subject to change), in the amended FRN. The virtual meeting was published in the Federal Register on Wednesday, June 23, 2021, Volume 86, Number 118, pages 32933-32934.

The virtual meeting is being amended to update the meeting times on June 23-25, 2021 (times subject to change) and matters to be considered and should read as follows:

SUMMARY: In accordance with the Federal Advisory Committee Act, the Centers for Disease Control and Prevention (CDC), announces the following meeting of the Advisory Committee on Immunization Practices (ACIP). This meeting is open to the public. Time will be available for public comment. The meeting will be webcast live via the World Wide Web; for more information on ACIP please visit the ACIP website: http://www.cdc.gov/vaccines/acip/index.html.

DATES: The meeting will be held on June 23, 2021, from 11:00 a.m. to 4:00 p.m., EDT (times subject to change); June 24, 2021, from 10:00 a.m. to 5:15 p.m., EDT (times subject to change); and June 25, 2021, from 10:00 a.m. to 1:00 p.m., EDT (times subject to change). Written comments must be received on or before June 25, 2021.

A notice of this ACIP meeting has also been posted on CDC's ACIP website at: http://www.cdc.gov/vaccines/acip/index.html. In addition, CDC has sent notice of this ACIP meeting by email to those who subscribe to receive email updates about ACIP.

FOR FURTHER INFORMATION CONTACT: Stephanie Thomas, ACIP Committee Management Specialist, Centers for Disease Control and Prevention, National Center for Immunization and Respiratory Diseases, 1600 Clifton Road NE, MS-H24-8, Atlanta, GA 30329-4027; Telephone: 404-639-8367; Email: ACIP@cdc.gov.

SUPPLEMENTARY INFORMATION:

Purpose: The committee is charged with advising the Director, CDC, on the use of immunizing agents. In addition, under 42 U.S.C. 1396s, the committee is mandated to establish and periodically review and, as appropriate, revise the list of vaccines for administration to vaccine-eligible children through the Vaccines for Children (VFC) program, along with schedules regarding dosing interval, dosage, and contraindications to administration of vaccines. Further, under provisions of the Affordable Care Act, section 2713 of the Public Health Service Act, immunization recommendations of the ACIP that have been approved by the Director of the Centers for Disease Control and Prevention and appear on CDC immunization schedules must be covered by applicable health plans.

Matters To Be Considered: The agenda will include discussions on COVID-19, dengue vaccine, herpes zoster vaccines, influenza vaccines, pneumococcal vaccine, and rabies vaccine.

Recommendation votes on dengue vaccine, influenza vaccines and rabies vaccine are scheduled. Vaccines for Children (VFC) votes on dengue vaccine and influenza vaccines are scheduled. Agenda items are subject to change as priorities dictate. For more information on the meeting agenda visit https://www.cdc.gov/vaccines/acip/meetings/meetings-info.html.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2021-14203 Filed 7-1-21; 8:45 am]

BILLING CODE 4163-18-P